DEPARTMENT OF TRANSPORTATION

Surface Transportation Board

[STB Finance Docket No. 34135]

The Fulton Railroad Co., Ltd.—Acquisition and Operation Exemption—Cincinnati Railway Company

The Fulton Railroad Co., Ltd. (Fulton), a noncarrier, has filed a verified notice of exemption under 49 CFR 1150.31 to acquire from Cincinnati Railway Company and operate approximately 4,800 feet of track from a beginning point of milepost 0.0 and continuing for 4,800 feet to end of track, in the City of Cincinnati, Millcreek Township, Hamilton County, OH (line).¹

¹ Fulton states that it will be the operator of the line but that it is engaging in discussions with the Indiana & Ohio Railway Company (IORY) for IORY to assume operations over the line.

The transaction is scheduled to be consummated on or about December 15, 2001. The earliest the transaction can be consummated is December 14, 2001, the effective date of the exemption (7 days after the notice of exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34135 must be filed with the Surface Transportation Board, Office of the Secretary, Case Control Unit, 1925 K Street, NW., Washington, DC 20423-0001. In addition, a copy of each pleading must be served on Robert L. Calhoun, Esq., Redmon, Peyton & Braswell, LLP, 510 King Street, Suite 301, Alexandria, VA 22314.

Board decisions and notices are available on our Web site at www.stb.dot.gov.

Decided: December 14, 2001.
By the Board, David M. Konschnik, Director, Office of Proceedings.
Vernon A. Williams,
Secretary.

[FR Doc. 01-31507 Filed 12-26-01; 8:45 am]

BILLING CODE 4915-00-P